SECURITIES AND EXCHANGE COMMISSION

17 CFR Part 240

[Release No. 34-51983A; File No. S7-02-04]

RIN 3235-AI02

Amendments to the Penny Stock Rules

AGENCY: Securities and Exchange Commission.

ACTION: Final rule; corrections.

SUMMARY: In Release No. 34-51983, the Securities and Exchange Commission issued amendments concerning the “penny stock rules” under the Securities Exchange Act of 1934, which appeared in the Federal Register of July 13, 2005 (70 FR 40614). In Release No. 34-51808, the Commission issued Regulation NMS, which appeared in the Federal Register of June 29, 2005 (70 FR 37496), and which, among other things, made technical amendments to the definition of penny stock. Since the effective date of Regulation NMS predates that of the amendments to the penny stock rules, the Commission is making technical corrections to the amendments to the penny stock rules to conform to the changes made in connection with Regulation NMS.

DATES: Effective September 12, 2005.

FOR FURTHER INFORMATION CONTACT: Catherine McGuire, Chief Counsel, Paula R. Jenson, Deputy Chief Counsel, Brian A. Bussey, Assistant Chief Counsel, or Norman M. Reed, Special Counsel, at 202/551-5550, Office of Chief Counsel, Division of Market Regulation, Securities and Exchange Commission, Station Place, 100 F Street, NE., Washington, DC 20549.

SUPPLEMENTARY INFORMATION: In FR Doc 05-13737 appearing on page 40614 in the Federal Register of Wednesday, July 13, 2005, the following corrections are made:

§ 240.3a51-1 [Corrected]

1. On page 40631, second column, revise the introductory text of paragraph (a) to read “(a) That is an NMS stock, as defined in § 242.600(b)(47), provided that:”.

2. On page 40632, first column, paragraph (e)(1), 5th line, revise “§ 240.11Aa3-1” to read “§ 242.601”.

Dated: August 3, 2005.
Jonathan G. Katz,
Secretary.

[FR Doc. 05-15681 Filed 8-8-05; 8:45 am]

BILLING CODE 8010-01-P